DEPARTMENT OF JUSTICE

Notice of Lodging of Proposed Consent Decree Under the Safe Drinking Water Act

On May 7, 2013, the Department of Justice lodged a proposed consent decree with the United States District Court for the District of Puerto Rico in the lawsuit entitled United States v. Victor Roberto Fernandez Ramos, et al., Civil Action Nos. 10-1017 (FAB).

The proposed consent decree resolves claims against Victor Roberto Fernandez Ramos and Carmen Aurea Fernandez Ramos for violations of the Safe Drinking Water Act (SDWA) and the Surface Water Treatment Rule, promulgated under the SDWA. Under the terms of the consent decree, Victor Roberto Fernandez Ramos and Carmen Aurea Fernandez Ramos will transfer their property interest in a public water system to an association that has assumed operation of the public water system and to pay $8,000 into an escrow account to be used by the association for future operation and maintenance of the public water system.

The publication of this notice opens a period of public comment on the consent decree. Comments should be addressed to the Assistant Attorney General, Environment and Natural Resources Division, and should refer to United States v. Victor Roberto Fernandez Ramos, et al., D. J. Ref. No. 90-5-1-1-09029. All comments must be submitted no later than thirty (30) days after the publication date of this notice. Comments may be submitted either by email or by mail:

To submit comments: | Send them to:
By e-mail | pubcomment-ees.enrd@usdoj.gov
By mail | Assistant Attorney General, U.S. DOJ—ENRD, P.O. Box 7611, Washington, D.C. 20044-7611.

During the public comment period, the consent decree may be examined and downloaded at this Department of Justice Web site: http://www.usdoj.gov/enrd/Consent_Decrees.html. We will provide a paper copy of the consent decree upon written request and payment of reproduction costs. Please mail your request and payment to: Consent Decree Library, U.S. DOJ—ENRD, P.O. Box 7611, Washington, DC 20044-7611.

Please enclose a check in the amount of $9.75 (25 cents per page reproduction cost) payable to the United States Treasury.

Maureen Katz,
Assistant Section Chief, Environmental Enforcement Section, Environment and Natural Resources Division.

[FR Doc. 2013-11371 Filed 5-13-13; 8:45 am]

BILLING CODE 4410-15-P